DEPARTMENT OF TRANSPORTATION

National Highway Traffic Safety Administration

[U.S. DOT Docket Number NHTSA-2008-0057]

Reports, Forms and Record Keeping Requirements

AGENCY: National Highway Traffic Safety Administration, U.S. Department of Transportation.

ACTION: Notice.

SUMMARY: In compliance with the Paperwork Reduction Act of 1995 (44 U.S.C. 3501 et seq.), this notice announces that the Information Collection Request (ICR) abstracted below will be forwarded to the Office of Management and Budget (OMB) for review and comment. The ICR describes the nature of the information collections and their expected burden. A Federal Register Notice with a 60-day comment period was published on March 28, 2008 (73 FR 16740).

DATES: Comments must be submitted to OMB on or before July 7, 2008.

ADDRESSES: Send comments to the Office of Information and Regulatory Affairs, OMB, 725 17th Street, NW., Washington, DC 20503, Attention: Desk Officer.

FOR FURTHER INFORMATION CONTACT: Jennifer Timian, Recall Management Division (NVS-215), Room W46-324, NHTSA, 1200 New Jersey Ave., Washington, DC 20590. Telephone: (202) 366-0209.

SUPPLEMENTARY INFORMATION:

National Highway Traffic Safety Administration

Title: Defect and Noncompliance Reporting and Notification.

OMB Number: 2127-0004.

Type of Request: Revision of a currently approved information collection.

Affected Public: Businesses or individuals.

Abstract: This notice addresses NHTSA's proposed revision to approved collection of information OMB No. 2127-0004. This collection covers those requirements found within various provisions of the Motor Vehicle Safety Act of 1966 (Act), 49 U.S.C. 30101, et seq., and implementing regulations found within 49 CFR parts 573 and 577, that require motor vehicle and motor vehicle equipment manufacturers to notify NHTSA and also owners, purchasers, dealers, and distributors, of safety-related defects and failures to comply with Federal Motor Vehicle Safety Standards (FMVSS) in products they manufactured. It also covers additional reporting, notification, and recordkeeping requirements related to those notifications and the ensuing free remedy programs, including the requirement(s):

• That a plan be filed explaining how the manufacturer intends to reimburse owners or purchasers who paid to remedy the defective or noncompliant product prior to its recall, and that this plan be explained in the notifications issued to owners and purchasers;

• That the manufacturer provide to NHTSA copies of communications pertaining to the recall campaign that they may issue to owners, purchasers, dealers, or distributors;

• That the manufacturer maintain a list of the owners, purchasers, dealers, and distributors it notified;

• That the manufacturer provide NHTSA with at least six quarterly reports detailing the progress of the recall campaign;

• Related to, in tire recall campaigns, the proper disposal of recalled tires, including requirements that the manufacturer submit a plan and provide certain information and instructions to certain persons (such as its dealers or retail outlets) addressing disposal, and a requirement that those persons report back deviations from that plan; and

• That any person who sells or leases a defective or noncompliant tire, knowing that the manufacturer has decided that tire is defective or noncompliant, report that sale or lease to NHTSA.

The statutory sections imposing these requirements include 49 U.S.C. 30118, 30119, 30120, and 30166. The regulatory sections implementing these statutory sections are found within 49 CFR part 573, Defect and Noncompliance Responsibility and Reports, and 49 CFR 577, Defect and Noncompliance Notification.

NHTSA published a Federal Register notice providing more detailed information about this information collection's requirements and its annual burden hour and respondent calculations on March 28, 2008 (73 FR 16740). All interested persons are encouraged to review that notice for further information if needed in preparing comments.

Estimated annual burden: 21,370 hours.

Number of respondents: 175.

Comments are invited on: whether the proposed collection of information is necessary for the proper performance of the functions of the Department, including whether the information will have practical utility; the accuracy of the Department's estimate of the burden of the proposed information collection; ways to enhance the quality, utility and clarity of the information to be collected; and ways to minimize the burden of the collection of information on respondents, including the use of automated collection techniques or other forms of information technology.

A comment to OMB is most effective if OMB receives it within 30 days of publication.

Issued on: May 27, 2008.
Kathleen C. DeMeter,
Director, Office of Defects Investigation.

[FR Doc. E8-12491 Filed 6-4-08; 8:45 am]

BILLING CODE 4910-59-P